DEPARTMENT OF COMMERCE

International Trade Administration

[A-570-863]

Honey from the People's Republic of China: Initiation of New Shipper Antidumping Duty Review

AGENCY: Import Administration, International Trade Administration, Department of Commerce.

EFFECTIVE DATE: February 7, 2005.

SUMMARY: In December 2004, the Department of Commerce (“the Department”) received a request to conduct a new shipper review of the antidumping duty order on honey from the People's Republic of China (“PRC”). We have determined that this request meets the statutory and regulatory requirements for the initiation of a new shipper review.

FOR FURTHER INFORMATION CONTACT: Anya Naschak at (202) 482-6375 or Kristina Boughton at (202) 482-8173; AD/CVD Operations, Office 9, Import Administration, International Trade Administration, U.S. Department of Commerce, 14th Street and Constitution Avenue, NW, Washington, DC 20230.

SUPPLEMENTARY INFORMATION:

Background

The Department received a timely request from Kunshan Xin'an Trade Co., Ltd. (“Xinan”) in accordance with 19 CFR 351.214 (c), for a new shipper review of the antidumping duty order on honey from the PRC, which has a December annual anniversary month. Xinan identified itself as the producer and exporter of honey. As required by 19 CFR 351.214(b)(2)(i), and (iii)(A), Xinan certified that it did not export honey to the United States during the period of investigation (“POI”), and that it has never been affiliated with any exporter or producer which exported honey to the United States during the POI. Furthermore, Xinan has also certified that its export activities are not controlled by the central government of the PRC, satisfying the requirements of 19 CFR 351.214(b)(2)(iii)(B). Pursuant to the Department's regulations at 19 CFR 351.214(b)(2)(iv), Xinan submitted documentation establishing the date on which the subject merchandise was first entered for consumption in the United States, the volume of that first shipment and any subsequent shipments, and the date of the first sale to an unaffiliated customer in the United States.

The Department conducted Customs database queries to confirm that Xinan's shipment had officially entered the United States via assignment of an entry date in the Customs database by U.S. Customs and Border Protection (“CBP”). In addition, the Department confirmed the existence of Xinan and its U.S. affiliate, Xin'an USA, Inc., which also served as the importer of record.

Initiation of Review

In accordance with section 751(a)(2)(B) of the Tariff Act of 1930 (“the Act”), as amended, and 19 CFR 351.214(d)(1), and based on information on the record, we are initiating a new shipper review for Xinan. See Memorandum to the File through James C. Doyle, “New Shipper Review Initiation Checklist,” dated January 31, 2005. We intend to issue the preliminary results of this review not later than 180 days after the date on which this review was initiated, and the final results of this review within 90 days after the date on which the preliminary results were issued.

Pursuant to 19 CFR 351.214(g)(1)(i)(A) of the Department's regulations, the period of review (“POR”) for a new shipper review, initiated in the month immediately following the anniversary month, will be the 12-month period immediately preceding the anniversary month. Therefore, the POR for the new shipper review of Xinan is December 1, 2003 through November 30, 2004.

It is the Department's usual practice in cases involving non-market economies to require that a company seeking to establish eligibility for an antidumping duty rate separate from the country-wide rate provide evidence of de jure and de facto absence of government control over the company's export activities. Accordingly, we will issue a questionnaire to Xinan, including a separate rates section. The review will proceed if the responses provide sufficient indication that Xinan is not subject to either de jure or de facto government control with respect to their exports of honey. However, if Xinan does not demonstrate its eligibility for a separate rate, then it will be deemed not separate from other companies that exported during the POI and the new shipper review will be rescinded.

In accordance with section 751(a)(2)(B)(iii) of the Act and 19 CFR 351.214(e), we will instruct CBP to allow, at the option of the importer, the posting, until the completion of the review, of a single entry bond or security in lieu of a cash deposit for certain entries of the merchandise exported by Xinan. Specifically, since Xinan has stated that it is both the producer and exporter of the subject merchandise for the sale under review, we will instruct CBP to limit the bonding option only to entries of merchandise that were both exported and produced by Xinan. Interested parties that need access to proprietary information in this new shipper review should submit applications for disclosure under administrative protective orders in accordance with 19 CFR 351.305 and 351.306.

This initiation and notice are in accordance with section 751(a) of the Act (19 U.S.C. 1675(a)) and 19 CFR 351.214(d).

Dated: January 31, 2005.
Barbara E. Tillman,
Acting Deputy Assistant Secretary for Import Administration.

[FR Doc. E5-480 Filed 2-4-05; 8:45 am]

BILLING CODE 3510-DS-S